DEPARTMENT OF HEALTH AND HUMAN SERVICES

Centers for Disease Control and Prevention

Notice of Award of a Single-Source Cooperative Agreement To Fund Ministerio de Salud de la República de Panamá (MINSA)

AGENCY: Centers for Disease Control and Prevention (CDC), Department of Health and Human Services (HHS).

ACTION: Notice.

SUMMARY: The Centers for Disease Control and Prevention (CDC), located within the Department of Health and Human Services (HHS), announces the cancellation of an award of approximately $10,000,000 for Year 1 of funding to MINSA.

DATES: The notice of award was cancelled on 04/05/2022.

FOR FURTHER INFORMATION CONTACT: Lily de Leon, Center for Global Health, Centers for Disease Control and Prevention, 18 Avenida 11-37, Zona 15, VHIII, 502) 23298426 or (404) 718-2645 USA. Email: izo0@cdc.gov.

SUPPLEMENTARY INFORMATION: On March 9, 2022, CDC announced a single-source award to support MINSA to scale up high-impact HIV prevention, testing and treatment models in Panama. This award is cancelled in its entirety.

Dated: April 5, 2022.
Terrance Perry,
Chief Grants Management Officer, Centers for Disease Control and Prevention.

[FR Doc. 2022-07542 Filed 4-7-22; 8:45 am]

BILLING CODE 4163-18-P